SECURITIES AND EXCHANGE COMMISSION

Sunshine Act Meetings

TIME AND DATE: Notice is hereby given, pursuant to the provisions of the Government in the Sunshine Act, Public Law 94-409, the Securities and Exchange Commission will hold an Open Meeting on Wednesday, August 5, 2020 at 10:00 a.m.

PLACE: The meeting will be held via remote means and/or at the Commission's headquarters, 100 F Street NE, Washington, DC 20549.

STATUS: This meeting will begin at 10:00 a.m. (ET) and will be open to the public via audio webcast only on the Commission's website at www.sec.gov.

MATTERS TO BE CONSIDERED: 1. The Commission will consider whether to propose rule and form amendments that would modernize the disclosure framework for open-end investment companies. The disclosure framework would feature concise and visually engaging shareholder reports that would highlight information that is particularly important for retail investors to assess and monitor their fund investments. The Commission also will consider whether to propose amendments to the advertising rules for registered investment companies and business development companies.

2. The Commission will consider whether to provide additional transparency regarding the appointment of candidates to the Investor Advisory Committee (IAC) by publishing procedures governing the nomination of candidates for appointment to the IAC.

CONTACT PERSON FOR MORE INFORMATION: For further information and to ascertain what, if any, matters have been added, deleted or postponed, please contact Vanessa A. Countryman, Office of the Secretary, at (202) 551-5400.

Dated: July 29, 2020.
Vanessa A. Countryman,
Secretary.

[FR Doc. 2020-16903 Filed 7-30-20; 11:15 am]

BILLING CODE 8011-01-P